DEPARTMENT OF THE INTERIOR

Minerals Management Service

30 CFR Part 250

RIN 1010-AC92

Oil and Gas and Sulphur Operations on the Outer Continental Shelf-Suspension of Operations for Exploration Under Salt Sheets; Correction

AGENCY: Minerals Management Service (MMS), Interior.

ACTION: Proposed rule; correction.

SUMMARY: MMS proposed to modify regulations that govern suspension of operations for oil and gas leases on the Outer Continental Shelf (OCS) in the Federal Register of January 9, 2002 (67 FR 1171). The title of the signer of that document was in error. This action corrects that error.

FOR FURTHER INFORMATION CONTACT: John Mirabella, Engineering and Operations Division, 703/787-1598.

SUPPLEMENTARY INFORMATION: In the Federal Register document published on January 9, 2002, there was an error in the title of the signer of the document. While the authority of the signer was not diminished by the erroneous title, the Department wishes that an accurate title be indicated on the document. The Department is correcting the documents as follows:

In proposed rule document (Federal Register document 02-521) make the following correction:

On page 1173, in the second column, 3 lines from the top of the column, the title for James C. Cason is corrected to read “Acting Deputy Secretary.”

Dated: January 21, 2002.
Timothy S. Elliott,
Acting Deputy Solicitor.

[FR Doc. 02-1918 Filed 1-24-02; 8:45 am]

BILLING CODE 4310-MR-M